DEPARTMENT OF DEFENSE

Department of the Army

Performance Review Boards Membership

AGENCY: Department of the Army, DoD

ACTION: Notice.

SUMMARY: Notice is given of the names of members of a Performance Review Board for the Department of the Army.

EFFECTIVE DATE: December 5, 2002.

FOR FURTHER INFORMATION CONTACT: Marilyn Ervin, U.S. Army Senior Executive Service Office, Assistant Secretary of the Army, Manpower & Reserve Affairs, 111 Army Pentagon, Washington, DC 20310-0111.

SUPPLEMENTARY INFORMATION: Section 4314(c)(1) through (5) of Title 5, U.S.C., requires each agency to establish, in accordance with regulations, one or more Senior Executive Service performance review boards. The boards shall review and evaluate the initial appraisal of senior executives' performance by supervisors and make recommendations to the appointing authority or rating official relative to the performance of these executives.

(a) The members of the Performance Review Board for the U.S. Army Chief of Staff are:

1. MG Lawrence R. Adair, Assistant G-1.

2. MG Dorian Anderson, Commander, Total Army Personnel Command.

3. BG Harry Axson, Director, Military Personnel Policy.

4. Mr. Brian Barr, Technical Director.

5. Ms. Jean M. Bennett, Director, Resources and Infrastructure.

6. Mr. Vernon Bettencourt, Director, Analysis and Chief, Information Office.

7. Mr. Joseph R. Billman, Director of Program Development.

8. MG Robert W. Chesnut, Assistant Deputy Chief of Staff, G-3 (Mobilization).

9. MG Peter Chiarelli, Director, Operations, Readiness, and Mobilization.

10. MG Claude V. Christianson, Assistant Deputy Chief of Staff, G-4.

11. Dr. Craig E. College, Assistant Deputy Chief of Staff for Programs.

12. Mr. William F. Crain, Technical Director.

13. BG Bruce Davis, Deputy Director, Operations, Readiness, and Mobilization.

14. Mr. Thomas Dillon, Director, Counterintelligence, Foreign Disclosure, and Security.

15. MG B. Sue Dueitt, Director, Personnel Transformation.

16. Mr. Terrance M. Ford, Assistant Deputy Chief of Staff, G-2.

17. MG James J. Grazioplene, Director, FD.

18. LTG Benjamin S. Griffin, G-8.

19. Mr. James Gunlicks, Deputy Director, Training.

20. BG Dennis Hardy, Director, Force Management.

21. MG David Huntoon, Director, Strategy, Plans and Policy.

22. BG Kenneth W. Hunzeker, Deputy Director, PAE.

23. BG Jerome Johnson, Director of Plans, Operations and Readiness.

24. LTG John M. Le Moyne, Deputy Chief of Staff, G-1.

25. Mr. Mark R. Lewis, Director of Plans, Resources & Operations.

26. Ms. Maureen T. Lischke, PEO for Information Systems & Chief Information Officer.

27. MG James Lovelace, Assistant Deputy Chief of Staff, G3.

28. Mr. Wendell Lunceford, Director, Army Model and Simulation Office.

29. LTG Charles S. Mahan, Jr., Deputy Chief of Staff, G-4.

30. BG Jesus A. Mangual, Director of Force Projection and Distribution.

31. Mr. John W. Matthews, Director, Army Records Management and Declassification Activity.

32. MG David F. Melcher, Director, PAE.

33. Mr. William P. Neal, Associate Director of Force Projection and Distribution.

34. LTG Robert W. Noonan, Jr., Deputy Chief of Staff for Intelligence.

35. Mr. Mark J. O'Konski, Director of Logistics Integration Agency.

36. Mr. Eric A. Orsini, Special Assistant to the DCS, G-4.

37. BG(P) Elbertt N. Perkins, Director, DOI.

38. BG Steve Schook, Director, Human Resource and Policy.

39. Ms. Donna L. Shands, Associate Director for Sustainment.

40. Dr. Zita Simutis, Director, Manpower & Personnel Research Laboratory & Associate Director, ARI.

41. Mr. David L. Snyder, Deputy Asst Sec of the Army (Civ Personnel Policy).

42. Mr. John C. Speedy, III, Deputy Director, Strategy, Plans and Policy.

43. Mr. Lewis S. Steenrod, Director of Modernization.

44. Mr. James J. Streilein, Director, Army Evaluation Center.

45. Ms. Elizabeth B. Throckmorton, Assistant Deputy Asst Sec of the Army (Civilian Personnel Policy).

46. MG James Thurman, Director, Training.

47. Mr. Donald C. Tison, Deputy Director, Program Analysis and Evaluation.

48. Mr. Edgar B. Vandiver, III, Director, Center for Army Analysis.

49. BG Lloyd T. Waterman, Director of Sustainment.

50. Mr. Daniel F. Wiener, II, Chief Information Officer.

(b) The members of the Performance Review Board for the U.S. Army, Office of the Secretary of the Army are:

1. Dr. Benson D. Adams, Special Assistant to the ASA(IE) for Policy and Economic Analysis.

2. Dr. A. Michael Andrews, II Deputy Asst Secretary for Research & Technology/Chief Scientist.

3. Mr. William A. Armburuster, DASA for Privatization and Partnership.

4. Ms. Diane J. Armstrong, Director, Resource Integration.

5. MG William L. Bond, Deputy for Systems Management.

6. Mr. David Borland, Deputy CIO/G-6.

7. MG Stephen W. Boutelle, Director, IONS.

8. Mr. Fredrick R. Budd, Director, Single Agency Manager for Pentagon Information Technology Services.

9. Mr. Delbert F. Bunch, Deputy Program Manager for Chemical Demilitarization Operations.

10. Ms. Kathryn A. Condon, Interagency Coordinator of Military Support to Civil Authorities.

11. Mr. James C. Cooke, Special Assistant for Systems.

12. LTG Peter M. Cuviello, CIO/G-6.

13. Mr. Donald L. Damstetter, Jr., DASA (Plans, Programs & Resources).

14. Mr. Daniel B. Denning, PDASA (M&RA) & DASA (TR&M).

15. Mr. Thomas Druzgal, Deputy Auditor General, Acquisition and Material Management.

16. Mr. George S. Dunlop, Deputy ASA (Legislation).

17. Mr. Raymond J. Fatz, Deputy Assistant Secretary of the Army for Environment, Safety, and Occupational Health.

18. Mr. Patrick J. Fitzgerald, Deputy Auditor General, Policy and Operations Management.

19. MG Warren L. Freeman, Director, DC National Guard.

20. Mr. Ernest J. Gregory, Principal DASA (Financial Mgt & Comptroller).

21. Ms. Judity A. Guenther, Director of Investments.

22. MG Lynn Hartsell, Director, Operations & Support.

23. Mr. Jack E. Hobbs, Project Dir, Army Workload & Performance Systems.

24. Mr. Walter W. Hollis, Deputy Under Secretary of the Army (Operations Research).

25. Mr. Joel B. Hudson, Administrative Assistant to the Secretary of the Army.

26. Mr. Craig D. Hunter, DASA (Defense Exports and Cooperation).

27. Dr. Daphne K. Kamely. Special Assistant to the Deputy Assistant Secretary of the Army for Environment, Safety, and Occupational Health.

28. Mr. Stephen E. Keefer, Deputy Auditor General, Installations Management.

29. Mr. John A. Kelley, Special Assistant to ASA(IE) for Asset Management.

30. Mr. Thomas E. Kelley, III, Special Assistant to the Secretary of the Army for Science & Technology.

31. Mr. John R. Kohler, Director of Business & Investments.

32. Mr. Charles A. Krohn, Principal Deputy to the Chief of Public Affairs (Media Relations),

33. Ms. Joann H. Langston, Competition Advocate of the Army.

34. Mr. John W. McDonald, Deputy Under Secretary of the Army.

35. Mr. John P. McLaurin, III, DASA (Military Personnel Mgt. & EO Policy).

36. Mr. John L. Miller, Director for Business Resources.

37. Ms. Joyce E. Morrow, Deputy Auditor General, Forces and Financial Management.

38. Mr. Levator Norsworthy, Jr., Deputy General Counsel (Acquisition).

39. Mr. Eric A Orsini, Deputy ASA (Logistics).

40. Ms. Tracey L. Pinson, Director of Small & Disadvantage Business Utilization.

41. Mr. Geoffrey G. Prosch, Principal DASA (Installation & Environment).

42. Mr. Francis E. Reardon, Auditor General.

43. Mr. Matt Reres, Deputy General Counsel (Ethics and Fiscal).

44. BG Velma L. Richardson, Deputy CG NETCOM (FWD).

45. Ms. Sandra R. Riley, Deputy Administrative Assistant/Executive Director, Headquarters Services—Washington.

46. BG Lewis S. Roach, Deputy for Services & Operations & US Army Services & Operations Agency.

47. Mr. Nels Running, DUSA (IA/Commemoration of 50th Ann Korean War).

48. Mr. Luther L. Santiful, Director of Equal Employment Opportunity/Civil Works.

49. Mr. Richard G. Sayre, Special Assistant for Systems.

50. Mr. Karl F. Schneider, DASA (Army Review Boards Agency).

51. MG John L. Scott, Chief Integration Officer.

52. Mr. C Russell H. Shearer, Special Assistant to ASA (IE).

53. MG Jerry L. Sinn, Deputy ASA (Budget).

54. Mr. Douglas Sizelove, Assistant Deputy Under Secretary of the Army (Operations Research).

55. Mr. James J. Smyth, Deputy ASA (Project Planning and Review).

56. Mr. David L. Snyder, Deputy ASA (Civilian Personnel Policy).

57. Dr. Barbara J. Sotirin, Acting Director, Research & Laboratory Management.

58. Mr. Earl H. Stockdale, Jr., Deputy General Counsel (Civil Works and Environment).

59. Dr. Larry B Stotts, Director for Technology.

60. Mr. Thomas W. Taylor, Senior Deputy General Counsel.

61. Ms. Elizabeth B. Throckmorton, Assistant DASA (Civilian Personnel Policy).

62. Ms. Claudia L. Tornblom, Deputy ASA (Management and Budget).

63. Mr. Michael L. Vajda, Director, Civilian Personnel Operations Center Management Agency.

64. Mr. Patrick J. Wakefield, DASA (Chemical Demilitarization) (Advisory).

65. Mr. C. Richard Whiston, Special Assistant to Secretary of the Army for Business Transformation.

66. Mr. Joseph W. Whitaker, Jr., DASA (Installations & Housing) (Advisory).

67. Miss Sarah F. White, DASA (Force Mgt, Manpower & Reserve Affairs).

68. Mr. Avon N. Williams, Principal Deputy General Counsel.

69. Mr. Robert J. Winchester, Assistant for Intelligence Liaison.

70. Mr. Robert W. Young, Deputy for Cost Analysis.

(c) The members of the Performance Review Board for the U.S. Army, Office of the Surgeon General are:

1. MG Kenneth L. Farmer, Deputy Surgeon General.

2. Dr. Charles N. Davidson, Director, US Army Nuclear & Chemical Agency.

3. Dr. James J. Streilein, Director, Army Evaluation Center.

(d) The members of the Performance Review Board for the U.S. Mission to the North Atlantic Treaty Organization are:

1. Mr. Alfred G. Volkman, Director, International Cooperation, OUSD, AT&L.

2. Mr. Barry Pavel, Director for Strategy, OSD.

3. Mr. Bernd McConnell, Director of the Office of Foreign Disaster Assistance, USAID.

4. Ms. Pamela Frazier, Foreign Policy Advisor to Chief of Staff, AF/Department of State.

Luz D. Ortiz,
Army Federal Register Liaison Officer.

[FR Doc. 02-31454 Filed 12-12-02; 8:45 am]

BILLING CODE 3710-08-M